FEDERAL COMMUNICATIONS COMMISSION

47 CFR Part 73

[DA 01-928; MM Docket No. 00-13, RM-9679]

Radio Broadcasting Services; Aberdeen, Elma and Montesano, WA

AGENCY: Federal Communications Commission.

ACTION: Final rule.

SUMMARY: The Commission, at joint request of KAYO Broadcasting and Marrow, Inc., substitutes Channel 271C2 for Channel 271C3 at Elma, reallots Channel 271C2 from Elma to Montesano, Washington, and modifies Station KSWW(FM)'s license accordingly. We also reallot Channel 257C1 from Aberdeen to Elma, as a replacement service, and modify Station KAYO-FM's license accordingly. See 65 FR 7816, February 16, 2000. Channel 271C2 can be reallotted to Montesano in compliance with the Commission's minimum distance separation requirements with a site restriction of 14.5 kilometers (9.0 miles) northwest to avoid a short-spacing to the licensed site of Station KINK-FM, Channel 270C, Portland, Oregon. The coordinates for Channel 271C2 at Montesano are 47-03-44 North Latitude and 123-44-44 West Longitude. See Supplementary Information, infra.

DATES: Effective May 29, 2001.

FOR FURTHER INFORMATION CONTACT: Sharon P. McDonald, Mass Media Bureau, (202) 418-2180.

SUPPLEMENTARY INFORMATION: This is a synopsis of the Commission's Report and Order, MM Docket No. 00-13, adopted April 4, 2001, and released April 13, 2001. The full text of this Commission decision is available for inspection and copying during normal business hours in the FCC Reference Information Center (Room CY-A257), 445 12th Street, SW, Washington, DC. The complete text of this decision may also be purchased from the Commission's copy contractors, International Transcription Service, Inc., (202) 857-3800, 1231 20th Street, NW., Washington, DC 20036.

In addition, Channel 257C1 can be realloted to Elma in compliance with the Commission's minimum distance separation requirements with a site restriction of 14.5 kilometers (9.0 miles) west to avoid a short-spacing to the licensed site of Station KWJJ-FM, Channel 258C1, Portland Oregon. The coordinates for Channel 257C1 at Elma are 46-57-31 North Latitude and 123-35-18 West Longitude. The allotment of Channel 257C1 at Elma is short-spaced to the licensed site of Station CFOX(FM), Channel 257C, Vancouver, British Columbia, and to the proposed allotment of Channel 258A at Metchosin/Sooke, British Columbia. Also, the allotment of Channel 271C2 at Montesano is short-spaced to the licensed site of Station CFUV-FM, Channel 270B, Victoria, British Columbia, and to the proposed allotment of Channel 269A at Nanaimo, British Columbia. Since Elma and Montesano are located within 320 kilometers (200 miles) of the U.S.-Canadian border, Canadian concurrence for Channel 271C2 at Montesano, and for Channel 257C1 at Elma, as specially-negotiated, short-spaced allotments, were requested, but have not yet been received. Therefore, if a construction permit is granted prior to the receipt of formal concurrence by the Canadian government for these allotments, the construction permit will include the following condition: “Operation with the facilities specified herein is subject to modification, suspension, or termination without right to hearing, if found by the Commission to be necessary in order to conform to the USA-Canadian FM Broadcast Agreement.”

List of Subjects in 47 CFR Part 73

Radio broadcasting.

Part 73 of title 47 of the Code of Federal Regulations is amended as follows:

PART 73—RADIO BROADCAST SERVICES

1. The authority citation for part 73 continues to read as follows:

Authority: 47 U.S.C. 54, 303, 334, and 336.

§ 73.202 [Amended]

2. Section 73.202(b), the Table of FM Allotments under Washington, is amended by removing Channel 257C1 at Aberdeen; removing Channel 271C3 and adding Channel 257C1 at Elma; and by adding Montesano, Channel 271C2.

Federal Communications Commission.
John A. Karousos,
Chief, Allocations Branch, Policy and Rules Division, Mass Media Bureau.

[FR Doc. 01-10700 Filed 4-30-01; 8:45 am]

BILLING CODE 6712-01-P